DEPARTMENT OF ENERGY

Federal Energy Regulatory Commission

Combined Notice of Filings

Take notice that the Commission has received the following Natural Gas Pipeline Rate and Refund Report filings:

Filings Instituting Proceedings

Docket Numbers: RP23-240-000.

Applicants: MountainWest Overthrust Pipeline, LLC.

Description: § 4(d) Rate Filing: WIC TSA 6344 Amendment No.1 to be effective 12/1/2022.

Filed Date: 12/1/22.

Accession Number: 20221201-5028.

Comment Date: 5 p.m. ET 12/13/22.

Docket Numbers: RP23-241-000.

Applicants: Sea Robin Pipeline Company, LLC.

Description: § 4(d) Rate Filing: Rate Case filed on 12-1-22 to be effective 1/1/2023.

Filed Date: 12/1/22.

Accession Number: 20221201-5040.

Comment Date: 5 p.m. ET 12/13/22.

Docket Numbers: RP23-242-000.

Applicants: Maritimes & Northeast Pipeline, L.L.C.

Description: § 4(d) Rate Filing: Negotiated Rates—Northern to Direct Energy 2739 eff 12-1-22 to be effective 12/1/2022.

Filed Date: 12/1/22.

Accession Number: 20221201-5043.

Comment Date: 5 p.m. ET 12/13/22.

Docket Numbers: RP23-243-000.

Applicants: Algonquin Gas Transmission, LLC.

Description: § 4(d) Rate Filing: Negotiated Rates—Various Releases eff 12-1-22 to be effective 12/1/2022.

Filed Date: 12/1/22.

Accession Number: 20221201-5047.

Comment Date: 5 p.m. ET 12/13/22.

Docket Numbers: RP23-244-000.

Applicants: Equitrans, L.P.

Description: § 4(d) Rate Filing: Negotiated Rate Capacity Release Agreements—12/1/2022 to be effective 12/1/2022.

Filed Date: 12/1/22.

Accession Number: 20221201-5048.

Comment Date: 5 p.m. ET 12/13/22.

Docket Numbers: RP23-245-000.

Applicants: Texas Eastern Transmission, LP.

Description: § 4(d) Rate Filing: Negoitated Rates—Various Releases eff 12-1-22 to be effective 12/1/2022.

Filed Date: 12/1/22.

Accession Number: 20221201-5050.

Comment Date: 5 p.m. ET 12/13/22.

Docket Numbers: RP23-246-000.

Applicants: Columbia Gas Transmission, LLC.

Description: § 4(d) Rate Filing: TCO PAL Negotiated Rate Agreements to be effective 12/1/2022.

Filed Date: 12/1/22.

Accession Number: 20221201-5096.

Comment Date: 5 p.m. ET 12/13/22.

Docket Numbers: RP23-247-000.

Applicants: Golden Triangle Storage, Inc.

Description: Compliance filing: Compliance filing 2022 Dec to be effective N/A.

Filed Date: 12/1/22.

Accession Number: 20221201-5097.

Comment Date: 5 p.m. ET 12/13/22.

Docket Numbers: RP23-248-000.

Applicants: Eastern Gas Transmission and Storage, Inc.

Description: Compliance filing: EGTS—December 1, 2022 Notice of Cancellation of Service Agreements to be effective N/A.

Filed Date: 12/1/22.

Accession Number: 20221201-5112.

Comment Date: 5 p.m. ET 12/13/22.

Docket Numbers: RP23-249-000.

Applicants: MarkWest Pioneer, L.L.C.

Description: § 4(d) Rate Filing: Quarterly Fuel Adjustment and Housekeeping to be effective 1/1/2023.

Filed Date: 12/1/22.

Accession Number: 20221201-5115.

Comment Date: 5 p.m. ET 12/13/22.

Docket Numbers: RP23-250-000.

Applicants: Dauphin Island Gathering Partners.

Description: § 4(d) Rate Filing: Clean-Up Revision Filing to be effective 1/1/2023.

Filed Date: 12/1/22.

Accession Number: 20221201-5118.

Comment Date: 5 p.m. ET 12/13/22.

Docket Numbers: RP23-252-000.

Applicants: Gas Transmission Northwest LLC.

Description: Compliance filing: Annual Fuel Charge Adjustment 2022 Report to be effective N/A.

Filed Date: 12/1/22.

Accession Number: 20221201-5133.

Comment Date: 5 p.m. ET 12/13/22.

Docket Numbers: RP23-253-000.

Applicants: Transcontinental Gas Pipe Line Company, LLC.

Description: § 4(d) Rate Filing: Rate Schedule S-2 Tracker Filing (ASA/PCB) eff 12/1/2022 to be effective 12/1/2022.

Filed Date: 12/1/22.

Accession Number: 20221201-5134.

Comment Date: 5 p.m. ET 12/13/22.

Docket Numbers: RP23-254-000.

Applicants: ANR Pipeline Company.

Description: § 4(d) Rate Filing: ANR-DRW Negotiated Rate Agreement No. 138379 to be effective 12/1/2022.

Filed Date: 12/1/22.

Accession Number: 20221201-5137.

Comment Date: 5 p.m. ET 12/13/22.

Docket Numbers: RP23-255-000.

Applicants: East Tennessee Natural Gas, LLC.

Description: § 4(d) Rate Filing: Negotiated Rates—EnerVest Releases to be effective 12/1/2022.

Filed Date: 12/1/22.

Accession Number: 20221201-5147.

Comment Date: 5 p.m. ET 12/13/22.

Docket Numbers: RP23-256-000.

Applicants: Tuscarora Gas Transmission Company.

Description: § 4(d) Rate Filing: TXP-SWG Agmt Amendments to be effective 12/1/2022.

Filed Date: 12/1/22.

Accession Number: 20221201-5150.

Comment Date: 5 p.m. ET 12/13/22.

Docket Numbers: RP23-257-000.

Applicants: Eastern Shore Natural Gas Company.

Description: § 4(d) Rate Filing: Capital Cost Surcharge #3 to be effective 1/1/2023.

Filed Date: 12/1/22.

Accession Number: 20221201-5151.

Comment Date: 5 p.m. ET 12/13/22.

Docket Numbers: RP23-258-000.

Applicants: Alliance Pipeline L.P.

Description: § 4(d) Rate Filing: Negotiated Rates—Various Dec 1 2022 Releases to be effective 12/1/2022.

Filed Date: 12/1/22.

Accession Number: 20221201-5154.

Comment Date: 5 p.m. ET 12/13/22.

Docket Numbers: RP23-259-000.

Applicants: NEXUS Gas Transmission, LLC.

Description: § 4(d) Rate Filing: Negotiated Rates—Various Releases eff 12-1-2022 to be effective 12/1/2022.

Filed Date: 12/1/22.

Accession Number: 20221201-5178.

Comment Date: 5 p.m. ET 12/13/22.

Docket Numbers: RP23-260-000.

Applicants: Cameron Interstate Pipeline, LLC.

Description: § 4(d) Rate Filing: Cameron Interstate Pipeline—Adjustment of Fuel Retainage to be effective 1/1/2023.

Filed Date: 12/1/22.

Accession Number: 20221201-5183.

Comment Date: 5 p.m. ET 12/13/22.

Docket Numbers: RP23-261-000.

Applicants: ANR Pipeline Company.

Description: § 4(d) Rate Filing: Tourmaline—AXP Non-Conforming Nos. 136174 and 134858 to be effective 1/1/2023.

Filed Date: 12/1/22.

Accession Number: 20221201-5190.

Comment Date: 5 p.m. ET 12/13/22.

Docket Numbers: RP23-262-000.

Applicants: Rover Pipeline LLC.

Description: § 4(d) Rate Filing: Summary of Negotiated Rate Capacity Release Agreements on 12-2-22 to be effective 12/1/2022.

Filed Date: 12/2/22.

Accession Number: 20221202-5007.

Comment Date: 5 p.m. ET 12/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-1229-001.

Applicants: Honeoye Storage Corporation.

Description: Compliance filing: HSC 2022 Second Rate Compliance Filing to be effective 1/1/2023.

Filed Date: 12/1/22.

Accession Number: 20221201-5126.

Comment Date: 5 p.m. ET 12/13/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2022.
Kimberly D. Bose,
Secretary.

[FR Doc. 2022-26680 Filed 12-7-22; 8:45 am]

BILLING CODE 6717-01-P